DEPARTMENT OF COMMERCE

Foreign-Trade Zones Board

[Docket 8-2002]

Foreign-Trade Zone No. 181: Application for Expansion and, Amendment of Application

Notice is hereby given that the application of the Northeast Ohio Trade & Economic Consortium (NEOTEC), grantee of FTZ 181, for authority to expand FTZ 181 in the Akron/Canton, Ohio area (Doc. 8-2002, 67 FR 6679, 2/13/02), has been amended to delete Proposed New Site 6 (43 acres), located within the 143-acre Colorado Industrial Park, Lorain County. The application otherwise remains unchanged.

Comments on the change may be submitted to the Foreign-Trade-Zones Board, U.S. Department of Commerce, FCB—Suite 4100W, 1401 Constitution Ave., NW., Washington, DC 20230, by October 30, 2002.

Dated: October 4, 2002.
Dennis Puccinelli,
Executive Secretary.

[FR Doc. 02-26180 Filed 10-11-02; 8:45 am]

BILLING CODE 3510-DS-P